DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App 2, the United States Department of Agriculture announces a meeting of the National Agricultural Research, Extension, Education, and Economics Advisory Board.

DATES: The National Agricultural Research, Extension, Education, and Economics Advisory Board will meet March 18-20, 2008 at the Double Tree Hotel, 1515 Rhode Island Avenue, NW., Washington, DC 20024.

ADDRESSES: The public may file written comments before or up to two weeks after the meeting with the contact person identified in this notice. You may submit comments by any of the following methods: E-mail: JADunn@csrees.usda.gov; Fax: (202) 720-6199; Mail/Hand-Delivery or Courier: The National Agricultural Research, Extension, Education, and Economics Advisory Board; Research, Education, and Economics Advisory Board Office, Room 344-A, Jamie L. Whitten Building, United States Department of Agriculture, STOP 2255, 1400 Independence Avenue, SW., Washington, DC 20250-2255.

FOR FURTHER INFORMATION CONTACT: Joseph A. Dunn, Executive Director, National Agricultural Research, Extension, Education, and Economics Advisory Board; telephone: (202) 720-3684.

SUPPLEMENTARY INFORMATION: On Tuesday, March 18, 2008, from 1 p.m.-5 p.m. the full Advisory Board meeting will commence beginning with introductory remarks provided by the Chair of the Advisory Board and the Under Secretary for Research, Education, and Economics (REE), USDA. On Tuesday, March 18, 2008, 1:15 p.m., The Honorable Secretary of Agriculture, Ed Schafer will visit and provide welcome remarks to the Board on the Board's role in advising the Department on subjects relevant to REE. An evening session will be held beginning at 6:30 p.m., and adjourning at 9 p.m. with Dr. Gale Buchanan, Under Secretary for Research, Education, and Economics (REE) who will present remarks on how the Board can advise USDA on enhancing its research, extension, education, and economics programs. On Wednesday, March 19, 2008, a focus session continuing discussions on Educating the Future Work Force for Agriculture Natural Resources and Related Areas from the previous day will begin at 8 a.m. and end at 5:30 p.m. followed by an evening session beginning at 6:30 p.m. and ending at 8:30 p.m. with a guest speaker providing additional remarks on (1) What can we do to attract more students into the agriculture, natural resources, and related areas; and (2) What changes are needed by universities, USDA, (and others) to ensure we are training students for industry's needs now and in the future. On Thursday, March 20, 2008, the meeting will reconvene at 8 a.m. to recap highlights from the meeting and to discuss Board business. You will hear remarks from within and outside USDA pertaining to the agency perspective on the individual topics. An opportunity for public comment will be offered after the meeting wrap-up. The Advisory Board Meeting will adjourn by 12 (noon) on March 20, 2008.

Written comments by attendees or other interested stakeholders will be welcomed for the public record before and up to two weeks following the Board meeting (by close of business Thursday, April 3, 2008). All statements will become a part of the official record of the National Agricultural Research, Extension, Education, and Economics Advisory Board and will be kept on file for public review in the Research, Extension, Education, and Economics Advisory Board Office.

Done at Washington, DC, this 26 day of February 2008.
Gale Buchanan,
Under Secretary, Research, Education, and Economics.

[FR Doc. E8-4099 Filed 3-3-08; 8:45 am]

BILLING CODE 3410-22-P